DEPARTMENT OF THE TREASURY

Internal Revenue Service

26 CFR Part 1

[REG-150066-08]

RIN 1545-BI45

Guidance Regarding Foreign Base Company Sales Income; Hearing Cancellation

AGENCY: Internal Revenue Service (IRS), Treasury.

ACTION: Cancellation of notice of public hearing on proposed rulemaking.

SUMMARY: This document cancels a public hearing on proposed rulemaking relating to the foreign base company sales income, in cases in which personal property sold by a controlled foreign corporation (CFC) is manufactured, produced, or constructed pursuant to a contract manufacturing arrangement or by one or more branches of the CFC. The temporary regulations modify the foreign base company sales income regulations to address current business structures and practices, particularly the growing importance of contract manufacturing and other manufacturing arrangements. The temporary regulations, in general, will affect CFCs and their United States shareholders.

DATES: The public hearing, originally scheduled for April 20, 2009, at 10 a.m., is cancelled.

FOR FURTHER INFORMATION CONTACT: Richard A. Hurst of the Publications and Regulations Branch, Legal Processing Division, Associate Chief Counsel (Procedure and Administration), at Richard.A.Hurst@irscounsel.treas.gov.

SUPPLEMENTARY INFORMATION: A notice of public hearing that appeared in the Federal Register on Monday, December 29, 2008 (73 FR 79421), announced that a public hearing was scheduled for April 20, 2009, at 10 a.m., in the auditorium, Internal Revenue Building, 1111 Constitution Avenue, NW., Washington, DC. The subject of the public hearing is under section 954 of the Internal Revenue Code.

The public comment period for these regulations expired on March 30, 2009. Outlines of topics to be discussed at the hearing were due on April 2, 2009. The notice of proposed rulemaking and notice of public hearing instructed those interested in testifying at the public hearing to submit an outline of the topics to be addressed. As of Monday, April 6, 2009, no one has requested to speak. Therefore, the public hearing scheduled for April 20, 2009, is cancelled.

LaNita Van Dyke,
Chief, Publications and Regulations Branch, Legal Processing Division, Associate Chief Counsel, Procedure and Administration.

[FR Doc. E9-8134 Filed 4-8-09; 8:45 am]

BILLING CODE 4830-01-P